DEPARTMENT OF COMMERCE

Bureau of Economic Analysis

Quarterly Survey of Transactions Between U.S. and Unaffiliated Foreign Persons in Selected Services and in Intangible Assets

ACTION: Proposed collection; comment request.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before 5 p.m. May 19, 2006.

ADDRESSES: Direct all written comments to Diane Hynek, Departmental Paperwork Clearance Officer, Department of Commerce, Room 6625, 14th and Constitution Avenue, NW., Washington, DC 20230, or via the Internet at dhynek@doc.gov, ((202) 482-0266).

FOR FURTHER INFORMATION CONTACT: Direct requests for additional information or copies of the survey and instructions to Christopher Emond, Chief, Special Surveys Branch, International Investment Division, (BE-50), Bureau of Economic Analysis, U.S. Department of Commerce, Washington, DC 20230; phone: (202) 606-9826; fax: (202) 606-5318; or via the Internet at christopher.emond@bea.gov, ((202) 482-0266).

SUPPLEMENTARY INFORMATION:

I. Abstract

Form BE-25, Quarterly Survey of Transactions Between U.S. and Unaffiliated Foreign Persons in Selected Services and in Intangible Assets, obtains quarterly data from companies that have receipts from or payments to unaffiliated foreign persons in any of the types of transactions covered by the survey. The data are needed to monitor trade in services and in intangible assets, analyze its impact on the U.S. and foreign economies, compile and improve the U.S. economic accounts, support U.S. commercial policy on services and intangible assets, conduct trade promotion, and improve the ability of U.S. businesses to identify and evaluate market opportunities.

The data from the survey are primarily intended as general purpose statistics. They are needed to answer any number of research and policy questions related to cross-border trade in services.

The form remains the same as in the past. No changes in the data collected or in exemption levels are proposed.

II. Method of Collection

Survey forms will be sent to U.S. companies each quarter; responses will be due within 45 days after the close of each fiscal quarter, except for the final quarter of the fiscal year, when the reports are due within 90 days after the close of the quarter. Potential respondents are U.S. business enterprises and not-for-profit institutions that have receipts from unaffiliated foreign persons in any of the types of transactions covered by the survey greater than $6 million for the prior calendar year or that are expected to be greater than $6 million in the current calendar year; or that have payments to unaffiliated foreign persons in any of the types of transactions covered by the survey greater than $4 million for the prior calendar year or that are expected to be greater than $4 million in the current calendar year. The data collected are cut-off sample data. In addition, estimates are developed based upon previously reported or estimated data for non-respondents, including those companies that fall below the reporting threshold for the survey.

III. Data

OMB Number: 0608-0067.

Form Number: BE-25.

Type of Review: Regular submission.

Affected Public: U.S. companies and not-for-profit institutions that transact with unaffiliated foreign persons in selected services or in intangible assets.

Estimated Number of Respondents: 550 per quarter; 2,200 annually.

Estimated Time Per Response: 16 hours.

Estimated Total Annual Burden Hours: 35,200 hours.

Estimated Total Annual Cost: $1,408,000 (based on an estimated reporting burden of 35,200 hours and an estimated hourly cost of $40).

Respondent's Obligation: Mandatory.

Legal Authority: The International Investment and Trade in Services Survey Act, 22 U.S.C. 3101-3108, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 14, 2006.
Madeleine Clayton,
Management Analyst, Office of Chief Information Officer.

[FR Doc. E6-3947 Filed 3-17-06; 8:45 am]

BILLING CODE 3510-06-P